DEPARTMENT OF COMMERCE

National Oceanic and Atmospheric Administration

RIN 0648-XC494

Taking Marine Mammals Incidental to Specified Activities; Taking Marine Mammals Incidental to an Exploration Drilling Program in the Chukchi Sea, Alaska

AGENCY: National Marine Fisheries Service (NMFS), National Oceanic and Atmospheric Administration (NOAA), Commerce.

ACTION: Notice; withdrawal of an incidental take authorization application.

SUMMARY: Notice is hereby given that ConocoPhillips Company (COP) has withdrawn its application for an Incidental Harassment Authorization (IHA). The following action is related to a proposed IHA to COP for the take of small numbers of marine mammals, by Level B harassment, incidental to conducting offshore exploration drilling on Outer Continental Shelf (OCS) leases in the Chukchi Sea, Alaska, during the 2014 open-water season.

ADDRESSES: A copy of the application, which contains several attachments, including COP's marine mammal mitigation and monitoring plan and Plan of Cooperation, can be viewed on the internet at: http://www.nmfs.noaa.gov/pr/permits/incidental.htm.

FOR FURTHER INFORMATION CONTACT: Candace Nachman, Office of Protected Resources, NMFS, (301) 427-8401.

SUPPLEMENTARY INFORMATION: On December 6, 2012, NMFS received a complete application from COP requesting an IHA. The requested IHA was for an authorization to take, by Level B harassment, small numbers of 12 marine mammal species incidental to COP's offshore exploration drilling in the Chukchi Sea during the 2014 open-water season. NMFS published a Notice of Proposed IHA, initiating a 30-day public comment period, on February 22, 2013 (78 FR 12542). We then published a notice extending the comment period by 45 days on March 28, 2013 (78 FR 18965). On April 22, 2013, NMFS accepted notice from COP withdrawing their IHA application for the proposed action. COP has deferred the plan to drill an exploratory well at the Devils Paw Prospect in the Chukchi Sea during the 2014 open-water season.

Dated: April 23, 2013.
Helen M. Golde,
Acting Director, Office of Protected Resources, National Marine Fisheries Service.

[FR Doc. 2013-09871 Filed 4-25-13; 8:45 am]

BILLING CODE 3510-22-P